FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3754F.

Name: AFS Logistics, Inc.

Address: 8585 Business Park Drive, Shreveport, LA 71105.

Date Revoked: January 11, 2002.

Reason: Failed to maintain a valid bond.

License Number: 13339N.

Name: Box Consolidators (USA) L.L.C.

Address: 20 Corporation Row, Edison, NJ 08817.

Date Revoked: December 8, 2001.

Reason: Failed to maintain a valid bond.

License Number: 4256F.

Name: Brixton Management, Inc.

Address: 13560 Berlin Station Road, Berlin Center, OH 44401.

Date Revoked: January 10, 2002.

Reason: Failed to maintain a valid bond.

License Number: 1171NF.

Name: Caribbean Freight Forwarders, Inc.

Address: 4715 NW 72nd Avenue, Miami, FL 33166.

Date Revoked: January 2, 2002.

Reason: Failed to maintain a valid bond.

License Number: 16848N.

Name: eKKa Forwarding Inc.

Address: 223 Bergen Turnpike, Bldg. 3, Ridgefield Park, NJ 07660.

Date Revoked: December 15, 2001.

Reason: Failed to maintain a valid bond.

License Number: 4098F.

Name: Gaeli, Inc.

Address: 10050 NW 116th Way, Ste. 15, Medley, FL 33178.

Date Revoked: January 10, 2002.

Reason: Failed to maintain a valid bond.

License Number: 3656NF.

Name: Gulfstream Freight Services, Inc. dba Gulfstream Logistics.

Address: 11919 SW 130th Street, Miami, FL 33186.

Date Revoked: December 6, 2001.

Reason: Failed to maintain valid bonds.

License Number: 17090N.

Name: Inter-Connect Transportation, Inc.

Address: 8901 S. La Cienega Blvd., Ste. 210, Inglewood, CA 90301.

Date Revoked: December 8, 2001.

Reason: Failed to maintain a valid bond.

License Number: 3690NF.

Name: Inter-Freight Logistics, Inc.

Address: 5401 W. Kennedy Boulevard, Ste. 999, Tampa, FL 33609.

Date Revoked: December 28, 2001.

Reason: Surrendered license voluntarily.

License Number: 4335N.

Name: International Services, Inc.

Address: 2907 Empress Ct., Valrico, FL 33594.

Date Revoked: December 5, 2001.

Reason: Failed to maintain a valid bond.

License Number: 15712N.

Name: J.H.K. Transportation System, Inc.

Address: 5210 12th Street East, Ste. B, Fife, WA 98424.

Date Revoked: December 30, 2001.

Reason: Failed to maintain a valid bond.

License Number: 12473N.

Name: Jupiter Express, Inc.

Address: 156-19 76th Street, Howard Beach, NY 11414.

Date Revoked: December 8, 2001.

Reason: Failed to maintain a valid bond.

License Number: 4637F.

Name: Lion Cargo Brokers, Inc. dba Polaris Ocean Line.

Address: 8055 NW 77th Court, Ste. 3, Medley, FL 33166.

Date Revoked: January 2, 2002.

Reason: Failed to maintain a valid bond.

License Number: 4215F.

Name: Logistics Management International, Inc.

Address: 816 Thorndale Avenue, Bensenville, IL 60106.

Date Revoked November 7, 2001.

Reason: Failed to maintain a valid bond.

License Number: 4066N.

Name: Maracargo Inc.

Address: 7700 NW 79th Place, Ste. 1, Miami, FL 33166.

Date Revoked: November 4, 2001.

Reason: Failed to maintain a valid bond.

License Number: 3326N.

Name: Modern Cargo Services Inc.

Address: 11265 NW 131st Street, Medley, FL 33178.

Date Revoked: November 1, 2001.

Reason: Failed to maintain a valid bond.

License Number: 16462N.

Name: Multi Transport Inc.

Address: 8422 NW 66th Street, Miami, FL 33166.

Date Revoked: December 29, 2001.

Reason: Failed to maintain a valid bond.

License Number: 4592N.

Name: Natasha International Freight, Inc.

Address: 12912 SW 133 Court, Ste. A, Miami, FL 33186.

Date Revoked: December 8, 2001.

Reason: Failed to maintain a valid bond.

License Number: 12459N.

Name: PSD International, Inc.

Address: 220 W. Ivy Avenue, Inglewood, CA 90302.

Date Revoked: December 15, 2001.

Reason: Failed to maintain a valid bond.

License Number: 16083F.

Name: Palmetto Freight Forwarding Group.

Address: 9695 NW 79th Avenue, Bay #6, Hialeah, FL 33016.

Date Revoked: December 6, 2001.

Reason: Failed to maintain a valid bond.

License Number: 0690F.

Name: Robert E. Landweer & Co., Inc.

Address: 911 Western Avenue, Ste. 208, Seattle, WA 98104.

Date Revoked: December 16 2001.

Reason: Failed to maintain a valid bond.

License Number: 15682N.

Name: S/J Americas Service, LLC dba S/J Americas Service.

Address: 11821 I-H 10 East, Ste. 630, Houston, TX 77029.

Date Revoked: December 5, 2001.

Reason: Failed to maintain a valid bond.

License Number: 3406N.

Name: Simmons International Express, Inc.

Address: 101 E. Clarendon Street, Prospect Heights, IL 60070.

Date Revoked: January 4, 2002.

Reason: Failed to maintain a valid bond.

License Number: 4587NF.

Name: Toriello Passarelli, Inc. dba Toriello Freight International.

Address: 8611 NW 72nd Street, Miami, FL 33166.

Date Revoked: August 10, 2001.

Reason: Failed to maintain valid bonds.

License Number: 4511F.

Name: Total Logistic Control, LLC.

Address: 8300 Logistics Drive, Zeeland, MI 49464.

Date Revoked: January 6, 2002.

Reason: Failed to maintain a valid bond.

License Number: 4551F.

Name: Washington World Trading Corp. dba Washington World International Freight Forwarders.

Address: 10411 NW 28th Street, Ste. C-103, Miami, FL 33172.

Date Revoked: December 26, 2001.

Reason: Failed to maintain a valid bond.

Sandra L. Kusumoto,
Director, Bureau of Consumer Complaints and Licensing.

[FR Doc. 02-2273 Filed 1-30-02; 8:45 am]

BILLING CODE 6730-01-P